DEPARTMENT OF HEALTH AND HUMAN SERVICES

Administration for Children and Families

[CFDA Number: 93.658]

Announcement of the Award of a Single-Source Program Expansion Supplement Grant to the Tribal Law and Policy Institute in West Hollywood, CA

AGENCY: Children's Bureau, Administration on Children, Youth and Families, Administration for Children and Families, Health and Human Services.

ACTION: Announcement of the award of a single-source program expansion supplement grant to the Tribal Law and Policy Institute in West Hollywood, CA, to support technical assistance to Tribes in the development of oversight plans for prescription medicines for children in Tribal foster care systems.

SUMMARY: The Administration for Children and Families (ACF), Administration on Children, Youth and Families (ACYF), Children's Bureau (CB) announces the award of a single-source program expansion supplement grant in the amount of $100,000 to the Tribal Law and Policy Institute, West Hollywood, CA, to provide new or modified technical assistance to assist States and Tribes in implementing the Administration on Children, Youth and Families' well-being framework in the context of the new requirements of the Child and Family Services Improvement and Innovation Act (Pub. L. 112-34) and explore the need for technical assistance to Tribes in the development of oversight plans for prescription medicines for children in Tribal foster care systems.

The Tribal Law and Policy Institute administers the National Resource Center for Tribes (NRC4Tribes) under a cooperative agreement where technical assistance is provided to Tribes to assist in building organizational capacity so that Tribes may operate their own foster care programs under title IV-E of the Social Security Act. Under the agreement, Tribal Law and Policy Institute identifies promising practices in Tribal child welfare systems, identifies and effectively implements community, and culturally-based strategies and resources that strengthen Tribal child and family services.

DATES: September 30, 2012 through September 29, 2013.

FOR FURTHER INFORMATION CONTACT: Jane Morgan, Children's Bureau, 1250 Maryland Avenue SW., Washington, DC 20024. Telephone: 202-205-8807; Email: jane.morgan@acf.hhs.gov.

SUPPLEMENTARY INFORMATION: Tribes receiving funding under title IV-B, subpart 1, are required to address in the Annual Progress and Services Report (APSR) how the Health Care Oversight and Coordination plan requirements are being met for Tribal children in foster care. The NRC4Tribes will address this need through the following:

1. The NRC4Tribes will convene a technical assistance key informant workgroup on the topic of Title IV-B Plan Prescription Medication Oversight for American Indian/Alaska Native children in tribal foster care systems. Tribal input will also be elicited to determine what type of technical assistance can support tribes in the development of prescription medication oversight plans.

2. Based upon the information gathered during these meetings and telephone calls the NRC4Tribes, with input from the technical assistance key informant workgroup, will develop easy to understand step-by-step recommendations for tribes to follow in development of their plan for oversight and coordination of health care services for children in foster care.

Additional training and technical assistance will be provided through peer-to-peer training and technical assistance, webinars, training teleconferences, and resource materials located on the NRC4Tribes Web site.

Statutory Authority: Section 476(c)(2)(iii) of the Social Security Act, as amended by the Fostering Connections to Success and Increasing Adoptions Act of 2008 (Pub. L. 110-351).

Bryan Samuels,
Commissioner, Administration on Children, Youth and Families.

[FR Doc. 2012-26244 Filed 10-24-12; 8:45 am]

BILLING CODE 4184-01-P